DEPARTMENT OF ENERGY

Federal Energy Regulatory Commission

Combined Notice of Filings #1

Take notice that the Commission received the following electric corporate filings:

Docket Numbers: EC18-125-000.

Applicants: RE Rosamond One LLC, RE Rosamond Two LLC, CS HoldCo 1 LLC.

Description: Joint Application for Authorization Under Section 203 of the Federal Power Act of RE Rosamond One LLC, et. al.

Filed Date: 7/26/18.

Accession Number: 20180726-5215.

Comments Due: 5 p.m. ET 8/16/18.

Docket Numbers: EC18-126-000.

Applicants: Minco Wind III, LLC, Minco IV & V Interconnection, LLC.

Description: Joint Application for Authorization Under Section 203 of the Federal Power Act of Minco Wind III, LLC, et. al.

Filed Date: 7/26/18.

Accession Number: 20180726-5220.

Comments Due: 5 p.m. ET 8/16/18.

Docket Numbers: EC18-127-000.

Applicants: RE McKenzie 1 LLC, RE McKenzie 2 LLC, RE McKenzie 3 LLC, RE McKenzie 4 LLC, RE McKenzie 5 LLC, RE McKenzie 6 LLC, CS HoldCo 1 LLC.

Description: Joint Application for Authorization Under Section 203 of the Federal Power Act of McKenzie 1 LLC, et. al.

Filed Date: 7/26/18.

Accession Number: 20180726-5223.

Comments Due: 5 p.m. ET 8/16/18.

Docket Numbers: EC18-128-000.

Applicants: Llano Estacado Wind, LLC, Mitsubishi Heavy Industries America, Inc.

Description: Joint Application for Authorization Under Section 203 of the Federal Power Act of Llano Estacado Wind, LLC, et. al.

Filed Date: 7/26/18.

Accession Number: 20180726-5227.

Comments Due: 5 p.m. ET 8/16/18.

Docket Numbers: EC18-129-000.

Applicants: Noble Great Plains Windpark, LLC.

Description: Application for Authorization Under Section 203 of the Federal Power Act of Noble Great Plains Windpark, LLC.

Filed Date: 7/26/18.

Accession Number: 20180726-5229.

Comments Due: 5 p.m. ET 8/16/18.

Take notice that the Commission received the following exempt wholesale generator filings:

Docket Numbers: EG18-112-000.

Applicants: Enel Green Power North America, Inc.

Description: Self-Certification of EG or FC of Enel Green Power Hilltopper Wind LLC, a subsidiary of Enel Green Power North America, Inc.

Filed Date: 7/27/18.

Accession Number: 20180727-5130.

Comments Due: 5 p.m. ET 8/17/18.

Docket Numbers: EG18-113-000.

Applicants: Enel Green Power North America, Inc.

Description: Self-Certification of EG Enel Green Power Rattlesnake Creek Wind Project, LLC a subsidiary of Enel Green Power North America, Inc.

Filed Date: 7/27/18.

Accession Number: 20180727-5131.

Comments Due: 5 p.m. ET 8/17/18.

Docket Numbers: EG18-114-000.

Applicants: Enel Green Power North America, Inc.

Description: Self-Certification of EG of Enel Green Power Diamond Vista Wind Project, LLC, a subsidiary of Enel Green Power North America, Inc.

Filed Date: 7/27/18.

Accession Number: 20180727-5132.

Comments Due: 5 p.m. ET 8/17/18.

Take notice that the Commission received the following electric rate filings:

Docket Numbers: ER18-1636-001.

Applicants: Midcontinent Independent System Operator, Inc.

Description: Tariff Amendment: 2018-07-27_Deficiency response to Align PRA and Attachment Y Process to be effective 7/16/2018.

Filed Date: 7/27/18.

Accession Number: 20180727-5141.

Comments Due: 5 p.m. ET 8/17/18.

Docket Numbers: ER18-2070-000.

Applicants: Midcontinent Independent System Operator, Inc.

Description: § 205(d) Rate Filing: 2018-07-26_Address Change Clean- Up Filing to be effective 7/27/2018.

Filed Date: 7/26/18.

Accession Number: 20180726-5188.

Comments Due: 5 p.m. ET 8/16/18.

Docket Numbers: ER18-2071-000.

Applicants: Niagara Mohawk Power Corporation, New York Independent System Operator, Inc.

Description: Tariff Cancellation: Niagara Mohawk cancellation re: interconnection agreement Village of Ilion to be effective 9/26/2018.

Filed Date: 7/27/18.

Accession Number: 20180727-5002.

Comments Due: 5 p.m. ET 8/17/18.

Docket Numbers: ER18-2072-000.

Applicants: Southwest Power Pool, Inc.

Description: § 205(d) Rate Filing: 1875R3 Kansas Electric Power Cooperative, Inc. NITSA and NOA to be effective 7/31/2018.

Filed Date: 7/27/18.

Accession Number: 20180727-5027.

Comments Due: 5 p.m. ET 8/17/18.

Docket Numbers: ER18-2073-000.

Applicants: Midcontinent Independent System Operator, Inc.

Description: § 205(d) Rate Filing: 2018-07-27_SA 3134 Entergy Texas-Liberty County Solar Project GIA (J483) to be effective 7/13/2018.

Filed Date: 7/27/18.

Accession Number: 20180727-5036.

Comments Due: 5 p.m. ET 8/17/18.

Docket Numbers: ER18-2074-000.

Applicants: AEP Texas Inc.

Description: § 205(d) Rate Filing: AEPTX-Pedernales Electric Cooperative TSA Amend & Restated to be effective 6/1/2018.

Filed Date: 7/27/18.

Accession Number: 20180727-5038.

Comments Due: 5 p.m. ET 8/17/18.

Docket Numbers: ER18-2075-000.

Applicants: Midcontinent Independent System Operator, Inc.

Description: § 205(d) Rate Filing: 2018-07-27_SA 3135 Entergy Louisiana, LLC-Entergy Louisiana, LLC GIA (J484) to be effective 7/13/2018.

Filed Date: 7/27/18.

Accession Number: 20180727-5042.

Comments Due: 5 p.m. ET 8/17/18.

Docket Numbers: ER18-2076-000.

Applicants: Midcontinent Independent System Operator, Inc.

Description: § 205(d) Rate Filing: 2018-07-27_SA 3136 Entergy Texas, Inc.-Entergy Texas, Inc GIA (J472) to be effective 7/13/2018.

Filed Date: 7/27/18.

Accession Number: 20180727-5043.

Comments Due: 5 p.m. ET 8/17/18.

Docket Numbers: ER18-2077-000.

Applicants: Rock River I, LLC.

Description: § 205(d) Rate Filing: Notice of Change in Status and Change in Category Seller Status to be effective 7/28/2018.

Filed Date: 7/27/18.

Accession Number: 20180727-5044.

Comments Due: 5 p.m. ET 8/17/18.

Docket Numbers: ER18-2078-000.

Applicants: ISO New England Inc., New England Power Pool Participants Committee.

Description: § 205(d) Rate Filing: ISO-NE and NEPOOL; Revisions to the Rationing Limit to be effective 9/25/2018.

Filed Date: 7/27/18.

Accession Number: 20180727-5101.

Comments Due: 5 p.m. ET 8/17/18.

Docket Numbers: ER18-2079-000.

Applicants: Entergy Arkansas, Inc.

Description: Tariff Cancellation: EAI-ESI Reimbursement Agreement to be effective 8/1/2018.

Filed Date: 7/27/18.

Accession Number: 20180727-5111.

Comments Due: 5 p.m. ET 8/17/18.

Docket Numbers: ER18-2080-000.

Applicants: Entergy Louisiana, LLC.

Description: Tariff Cancellation: ELL-ESI Reimbursement Agreement to be effective 8/1/2018.

Filed Date: 7/27/18.

Accession Number: 20180727-5114.

Comments Due: 5 p.m. ET 8/17/18.

Docket Numbers: ER18-2081-000.

Applicants: Entergy Mississippi, Inc.

Description: Tariff Cancellation: EMI-ESI Reimbursement Agreement to be effective 8/1/2018.

Filed Date: 7/27/18.

Accession Number: 20180727-5121.

Comments Due: 5 p.m. ET 8/17/18.

Docket Numbers: ER18-2082-000.

Applicants: Duke Energy Carolinas, LLC.

Description: § 205(d) Rate Filing: DEC-NC BioGas, LLC ASOA (SA-496) to be effective 9/26/2018.

Filed Date: 7/27/18.

Accession Number: 20180727-5122.

Comments Due: 5 p.m. ET 8/17/18.

Docket Numbers: ER18-2083-000.

Applicants: Entergy New Orleans, Inc.

Description: Tariff Cancellation: ENO-ESI Reimbursement Agreement to be effective 8/1/2018.

Filed Date: 7/27/18.

Accession Number: 20180727-5123.

Comments Due: 5 p.m. ET 8/17/18.

Docket Numbers: ER18-2084-000.

Applicants: Entergy Texas, Inc.

Description: Tariff Cancellation: ETI-ESI Reimbursement Agreement to be effective 8/1/2018.

Filed Date: 7/27/18.

Accession Number: 20180727-5125.

Comments Due: 5 p.m. ET 8/17/18.

Docket Numbers: ER18-2085-000.

Applicants: Cambria CoGen Company.

Description: Baseline eTariff Filing: Cambria CoGen Reactive Supply Service Tariff Filing to be effective 9/1/2018.

Filed Date: 7/27/18.

Accession Number: 20180727-5154.

Comments Due: 5 p.m. ET 8/17/18.

Docket Numbers: ER18-2086-000.

Applicants: 64KT 8me LLC.

Description: § 205(d) Rate Filing: Certificate of Concurrence to Co-Tenancy and Shared Facilities Agreement to be effective 7/28/2018.

Filed Date: 7/27/18.

Accession Number: 20180727-5155.

Comments Due: 5 p.m. ET 8/17/18.

Docket Numbers: ER18-2087-000.

Applicants: ITC Midwest LLC.

Description: § 205(d) Rate Filing: Filing of CIAC Agreement to be effective 7/30/2018.

Filed Date: 7/27/18.

Accession Number: 20180727-5156.

Comments Due: 5 p.m. ET 8/17/18.

Docket Numbers: ER18-2088-000.

Applicants: 64KT 8me LLC.

Description: § 205(d) Rate Filing: Certificate of Concurrence to LGIA Co-Tenancy Agreement to be effective 7/28/2018.

Filed Date: 7/27/18.

Accession Number: 20180727-5157.

Comments Due: 5 p.m. ET 8/17/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2018.
Nathaniel J. Davis, Sr.,
Deputy Secretary.

[FR Doc. 2018-16817 Filed 8-6-18; 8:45 am]

BILLING CODE 6717-01-P